DEPARTMENT OF TRANSPORTATION

Federal Aviation Administration

14 CFR Part 39

[Docket No. FAA-2016-9052; Directorate Identifier 2016-NM-080-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 series airplanes; Model A300 B4-600, B4-600R, and F4-600R series airplanes, and Model A300 C4-605R Variant F airplanes (collectively called Model A300-600 series airplanes); and Model A310 series airplanes. This proposed AD was prompted by reports of failure of an aft hinge bolt assembly in the nose landing gear (NLG) aft doors. This proposed AD would require replacement of the aft hinge bolt assembly in the left and right NLG aft doors, with new aft hinge bolt assemblies. We are proposing this AD to prevent failure of an aft hinge bolt assembly in an NLG aft door while the airplane is in flight, which could lead to an in-flight loss of an NLG aft door, and damage to the airplane.

DATES: We must receive comments on this proposed AD by October 14, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9052; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2016-9052; Directorate Identifier 2016-NM-080-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2016-0100, dated May 24, 2016 (referred to after this as the Mandatory Continuing Airworthiness Information, or “the MCAI”), to correct an unsafe condition for all Airbus Model A300 series airplanes; Model A300 B4-600, B4-600R, and F4-600R series airplanes, and Model A300 C4-605R Variant F airplanes (collectively called Model A300-600 series airplanes); and Model A310 series airplanes. The MCAI states:

An occurrence has been reported of failure of a nose landing gear (NLG) door aft hinge bolt assembly, Part Number (P/N) A53612600000. The result of laboratory investigations revealed that the aft hinge bolt rupture was initiated by fatigue crack development in the under head radius of the bolt, due to the lack of radius roll over and in combination with a non-optimised design.

This condition, if not detected and corrected, could lead to in-flight loss of an aft NLG door, possibly resulting in damage to the aeroplane and injury to persons on the ground.

Prompted by these findings, Airbus developed a new design aft hinge bolt assembly P/N A53612713000, introduced as Airbus modification (mod) 13741, to replace the existing bolt P/N A53612600000. Since the introduction of that mod, additional stress calculations demonstrated that the new bolt assembly, P/N A53612713000, cannot sustain fatigue loads up to the design Limit of Validity (LOV) of the affected aeroplanes.

To address this potential unsafe condition, Airbus issued Service Bulletin (SB) A300-53-0397, SB A310-53-2144 and SB A300-53-6186, to provide instructions for the repetitive replacement of the affected post-mod 13741 P/N A53612713000 aft hinge bolts.

For the reasons described above, this [EASA] AD requires the replacement of all P/N A53612600000 aft hinge bolt assemblies, installed on the left hand (LH) and right hand (RH) NLG aft doors, with post-mod 13741 P/N A53612713000 aft hinge bolt assemblies, and, subsequently, the implementation of a life limit for those new bolt assemblies.

You may examine the MCAI in the AD docket on the Internet at http://www.regulations.gov by searching for and locating Docket No. FAA-2016-9052.

Related Service Information Under 1 CFR Part 51

Airbus has issued the following service information.

• Airbus Service Bulletin A300-53-0396, dated November 25, 2015.

• Airbus Service Bulletin A300-53-0397, dated January 18, 2016.

• Airbus Service Bulletin A300-53-6182, dated November 17, 2015.

• Airbus Service Bulletin A300-53-6186, dated January 18, 2016.

• Airbus Service Bulletin A310-53-2142, dated November 17, 2015.

• Airbus Service Bulletin A310-53-2144, dated January 18, 2016.

The service information describes procedures for replacement of the aft hinge bolt assembly in the left and right NLG aft doors, with new aft hinge bolt assemblies.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 157 airplanes of U.S. registry.

We estimate the following costs to comply with this proposed AD:

Estimated Costs
Action | Labor cost | Parts cost | Cost per product | Cost on U.S. operators
Replacement | 9 work-hours × $85 per hour = $765 | $2,000 | $2,765 | $434,105

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-9052; Directorate Identifier 2016-NM-080-AD.

(a) Comments Due Date

We must receive comments by October 14, 2016.

(b) Affected ADs

None.

(c) Applicability

This AD applies to Airbus airplanes identified in paragraphs (c)(1) through (c)(6) of this AD, certificated in any category, all manufacturer serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(6) Model A310-203, -204, -221, -222, -304, -322, -324, and -325 airplanes.

(d) Subject

Air Transport Association (ATA) of America Code 53, Fuselage.

(e) Reason

This AD was prompted by reports of failure of an aft hinge bolt assembly in the nose landing gear (NLG) aft doors. We are issuing this AD to prevent failure of an aft hinge bolt assembly in an NLG aft door while the airplane is in flight, which could lead to an in-flight loss of an NLG aft door, and damage to the airplane.

(f) Compliance

Comply with this AD within the compliance times specified, unless already done.

(g) Replace the Aft Hinge Bolt Assemblies Having Part Number (P/N) A53612600000

Before the accumulation of 10,000 total flight cycles since first flight of the airplane, or within 2,000 flight cycles after the effective date of this AD, whichever occurs later, replace each aft hinge bolt assembly having P/N A53612600000 on the left and right NLG aft doors, with a new hinge bolt assembly having P/N A53612713000, in accordance with the Accomplishment Instructions of the applicable service information identified in paragraph (g)(1), (g)(2), or (g)(3) of this AD.

(1) Airbus Service Bulletin A300-53-0396, dated November 25, 2015.

(2) Airbus Service Bulletin A310-53-2142, dated November 17, 2015.

(3) Airbus Service Bulletin A300-53-6182, dated November 17, 2015.

(h) Replace the Aft Hinge Bolt Assemblies Having P/N A53612713000

Within 10,000 flight cycles after modification of an airplane as required by paragraph (g) of this AD, replace each aft hinge bolt assembly having P/N A53612713000 on the left and right aft NLG doors, with a new aft hinge bolt assembly having P/N A53612713000 on the left and right NLG aft doors, in accordance with the Accomplishment Instructions of the applicable service information specified in paragraph (h)(1), (h)(2), or (h)(3) of this AD. Repeat the replacement thereafter at intervals not to exceed 10,000 flight cycles.

(1) Airbus Service Bulletin A300-53-0397, dated January 18, 2016.

(2) Airbus Service Bulletin A310-53-2144, dated January 18, 2016.

(3) Airbus Service Bulletin A300-53-6186, dated January 18, 2016.

(i) Parts Installation Prohibition (P/N A53612600000)

After modification of an airplane NLG aft door as required by paragraph (g) of this AD, do not install an aft hinge bolt assembly having P/N A53612600000 on any NLG aft door of that airplane.

(j) Parts Installation Limitation (P/N A53612713000)

After removal of an aft hinge bolt assembly having P/N A53612713000 from an airplane aft NLG door, as required by paragraph (h) of this AD, do not install an aft hinge bolt assembly having that part number on any airplane unless it is a new aft hinge bolt assembly.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA Airworthiness Directive 2016-0100 dated May 24, 2016, for related information. This MCAI may be found in the AD docket on the Internet at http://www.regulations.gov by searching for and locating Docket No. FAA-2016-9052.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on August 19, 2016.
Dorr M. Anderson,
Acting Manager, Transport Airplane Directorate, Aircraft Certification Service.

[FR Doc. 2016-20699 Filed 8-29-16; 8:45 am]

BILLING CODE 4910-13-P